ENVIRONMENTAL PROTECTION AGENCY

[ER-FRL-6645-8]

Environmental Impact Statements; Notice of Availability

Responsible Agency: Office of Federal Activities, General Information (202) 564-7167 or http://www.epa.gov/compliance/nepa/.

Weekly receipt of Environmental Impact Statements

Filed November 17, 2003 Through November 21, 2003

Pursuant to 40 CFR 1506.9.

EIS No. 030527, Final EIS, AFS, AZ, Buck Springs Range Allotment Rangeland Management, Implementation, Blue Ridge Coconino National Forest, Coconino County, AZ, Wait Period Ends: December 29, 2003, Contact: Cathy Taylor (928) 477-2255.

EIS No. 030528, Draft EIS, AFS, CA, McNally/Sherman Pass Restoration Project, Proposal to Remove Fire-Kill Trees, Road Construction and Associated Restoration of the Area Burned, Sequoia National Forest, Cannell Meadow Ranger District, Tulare County, CA, Comment Period Ends: January 12, 2004, Contact: Tom Simonso Ext. 1187 (559) 784-1500.

EIS No. 030529, Final EIS, AFS, SD, Elk Bugs and Fuels Project, Vegetation Management to Reduce the Spread of Mountain Pine Beetles and the Threat and Severity of Potential Wildfires, Black Hills National Forest Land and Resource Management Plan, Implementation, Northern Hills Ranger District, Black Hills National Forest, Lawrence and Meade Counties, SD, Wait Period Ends: December 29, 2003, Contact: Elizabeth Krueger (307) 283-1361.

EIS No. 030530, Final EIS, USA, NY, Thomas Jefferson Hall and Other Construction Activities in the Cadet Zone of the United States Military Academy, Implementation, West Point, Hudson River Valley, Orange and Putnam Counties, NY, Wait Period Ends: December 29, 2003, Contact: Douglas R. Cubbison (845) 938-3522.

EIS No. 030531, Final EIS, AFS, WA, Crupina Integrated Weed Management Project, Control and Eradication of Crupina, Implementation, Okanogan and Wenatchee National Forests, Chelan Ranger District, Chelan County, WA, Wait Period Ends: December 29, 2003, Contact: Mallory Lenz (509) 682-2576.

EIS No. 030532, Draft EIS, DOI, UT, Lower Duchesne River Wetlands Mitigation Project (LDWP), To Implement Restoration Measures in the Lower Duchesne River Area, Strawberry Aqueduct and Collection System (SACS) on portions of the, Strawberry Reservoir, Ute Indian Tribe, NPDES and US Army COE Section 404 Permits, Duchesne, Utah, Uintah Counties, UT, Comment Period Ends: January 16, 2004, Contact: Ralph G. Swanson (801) 379-1254.

EIS No. 030533, Final EIS, AFS, ID, Clean Slate Ecosystem Management Project, Aquatic and Terrestrial Restoration, Nez Perce National Forest, Salmon River Ranger District, Idaho County ID, Wait Period Ends: December 29, 2003, Contact: Mike Mcgee (208) 983-1950.

EIS No. 030534, Draft EIS, COE, NC, Bogus Inlet Channel Erosion Response Project, Relocation of the Main Ebb Channel to Eliminate the Erosive Impact to the Town of Emerald Isle, Carteret and Onslow Counties, NC, Comment Period Ends: January 13, 2004, Contact: Mickey T. Sugg (910) 251-4811.

EIS No. 030535, Draft EIS, AFS, MT, Judith Restoration Project, Proposal to Maintain and/or Restore Healthy Soil, Water and Vegetation Conditions, Lewis and Clark National Forest, Judith Ranger District, Judith Basin County, MT, Comment Period Ends: January 12, 2004, Contact: Jennifer Johnsten (406) 791-7700.

EIS No. 030536, Final EIS, SFW, WA, Daybreak Mine Expansion and Habitat Enhancement Project, Habitat Conservation Plan, and Issuance of a Multiple Species Permit for Incidental Take, Implementation, Clark County, WA, Wait Period Ends: December 29, 2003, Contact: Tim Romanski (360) 753-5823.

EIS No. 030537, Final EIS, BLM, AK, Northwest National Petroleum Reserve-Alaska (NPR-A) Integrated Plan, Multiple-Use Management of 8.8 million Acres, Lands within the North Slope Borough, AK, Wait Period Ends: December 29, 2003, Contact: Curtis Wilson (907) 271-5546.

EIS No. 230538, Draft EIS, AFS, NB, Pine Ridge Geographic Area Rangeland Allotment Management Planning, To Permit Livestock Grazing on 34 Allotments, Nebraska National Forest, Pine Ridge Ranger District, Dawes and Sioux Counties, NB, Comment Period Ends: January 12, 2004, Contact: Jeffrey S. Abegglen (308) 432-4475.

EIS No. 030539, Draft EIS, DOE, OR, COB Energy Facility, Proposes to Construct a 1,160-megawatt (MW) Natural Gas-Fired and Combined-Cycle Electric Generating Plant, Right-of-Way Permit across Federal Land under the Jurisdiction of BLM, Klamath Basin, Klamath County, OR, Comment Period Ends: February 13, 2004, Contact: Thomas C. McKinney (503) 230-4749. This document is available on the Internet at: http://www.bpa.gov.

EIS No. 030540, Draft EIS, DOE, OH, Portsmouth, Ohio Site Depleted Uranium Hexafluoride Conversion Facility, Construction and Operation, Pike County, OH, Comment Period Ends: February 02, 2004, Contact: Gary S. Hartman (866) 530-0944. This document is available on the Internet at: http://www.eh.doe.gov/nepa/documents.html.

EIS No. 030541, Draft EIS, DOE, KY, Paducah, Kentucky, Site Depleted Uranium Hexafluoride Conversion Facility, Construction and Operation, McCraken County, KY, Comment Period Ends: February 02, 2004, Contact: Gary S. Hartman (866) 530-0944. This document is available on the Internet at: http://www.eh.doe.gov/nepa/documents/html.

Amended Notices

EIS No. 030407, Draft EIS, EPA, CT, NY, Central and Western Long Island Sound Dredged Material Disposal Sites, Designation, CT and NY, Comment Period Ends: December 15, 2003, Contact: Ann Rodney (617) 918-1538. Revision of FR Notice Published on 9/12/2003: CEQ Comment Period Ending on 10/27/2003 has been Extended to 12/15/2003.

Dated: November 24, 2003.
Joseph C. Montgomery,
Director, NEPA Compliance Division, Office of Federal Activities.

[FR Doc. 03-29690 Filed 11-26-03; 8:45 am]

BILLING CODE 6560-50-P